SECURITIES AND EXCHANGE COMMISSION

Proposed Collection; Comment Request

Upon written request, copies available from: Securities and Exchange Commission, Office of Filings and Information Services, Washington, DC 20549.

Extensions:

Form 6-K, OMB Control No. 3235-0116, SEC File No. 270-107.

Notice is hereby given that pursuant to the Paperwork Reduction Act of 1995 (44 U.S.C. 3501 et seq.) the Securities and Exchange Commission (“Commission”) is soliciting comments on the collection of information summarized below. The Commission plans to submit this existing collection of information to the Office of Management and Budget for extension and approval.

Form 6-K elicits material information from foreign private issuers of publicly traded securities promptly after the occurrence of specified or other important corporate events so that investors have current information upon which to base investment decisions. The purpose of Form 6-K is to ensure that U.S. investors have access to the same information that foreign investors do when making investment decisions. Form 6-K is filed by approximately 14,661 issuers annually. We estimate that it takes 8 hours per response to prepare Form 6-K for a total annual burden of 117,288 hours. We further estimate that 367 Forms 6-K each year require an additional 27 hours per response to translate into English an additional 8 pages of foreign language text for a total of 9,909 additional burden hours, which results in 127,197 total annual burden hours for Form 6-K. We estimate that respondents incur 75% of the 117,288 annual burden hours (87,966 hours) to prepare Form 6-K and 25% of the 9,909 burden hours (2,477 hours) to translate the additional foreign language text into English for a total annual reporting burden of 90,443 hours. The remaining burden hours are reflected as a cost to the foreign private issuers.

Written comments are invited on: (a) Whether this collection of information is necessary for the proper performance of the functions of the agency, including whether the information will have practical utility; (b) the accuracy of the agency's estimate of the burden of the collections of information; (c) ways to enhance the quality, utility, and clarity of the information collected; and (d) ways to minimize the burden of the collection of information on respondents, including through the use of automated collection techniques or other forms of information technology. Consideration will be given to comments and suggestions submitted in writing within 60 days of this publication.

Please direct your written comments to R. Corey Booth, Director/Chief Information Officer, Office of Information Technology, Securities and Exchange Commission, 450 Fifth Street, NW., Washington, DC 20549.

Dated: March 31, 2005.
Margaret H. McFarland,
Deputy Secretary.

[FR Doc. E5-1665 Filed 4-11-05; 8:45 am]

BILLING CODE 8010-01-P